DEPARTMENT OF TRANSPORTATION

Federal Aviation Administration

14 CFR Part 39

[Docket No. FAA-2018-0417; Product Identifier 2017-NM-132-AD; Amendment 39-19440; AD 2018-20-06]

RIN 2120-AA64

Airworthiness Directives; Airbus SAS Airplanes

AGENCY: Federal Aviation Administration (FAA), Department of Transportation (DOT).

ACTION: Final rule.

SUMMARY: We are superseding Airworthiness Directive (AD) 2016-25-03, which applied to certain Airbus Model A300 F4-600R series airplanes. AD 2016-25-03 required repetitive high frequency eddy current (HFEC) inspections of the aft lower deck cargo door (LDCD) frame forks; a one-time check of the LDCD clearances; and a one-time detailed visual inspection of hooks, eccentric bushes, and x-stops; and corrective actions if necessary. This AD requires repetitive HFEC inspections of the aft LDCD frame forks; a one-time check of the LDCD clearances; and a one-time detailed visual inspection of hooks, eccentric bushes, and x-stops; and corrective actions if necessary. This AD was prompted by a report of two adjacent frame forks that were found cracked on the aft LDCD of two airplanes during scheduled maintenance, and the introduction of frame fork reinforcement or repair procedures that, when done, allow an extension of repetitive inspection intervals. We are issuing this AD to address the unsafe condition on these products.

DATES: This AD is effective November 5, 2018.

The Director of the Federal Register approved the incorporation by reference of certain publications listed in this AD as of November 5, 2018.

The Director of the Federal Register approved the incorporation by reference of a certain other publication listed in this AD as of January 26, 2017 (81 FR 93801, December 22, 2016).

ADDRESSES: For service information identified in this final rule, contact Airbus SAS, Airworthiness Office—EAW, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-0417.

Examining the AD Docket

You may examine the AD docket on the internet at http://www.regulations.gov by searching for and locating Docket No. FAA-2018-0417; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone and fax 206-231-3225.

SUPPLEMENTARY INFORMATION:

Discussion

We issued a notice of proposed rulemaking (NPRM) to amend 14 CFR part 39 to supersede AD 2016-25-03, Amendment 39-18729 (81 FR 93801, December 22, 2016) (“AD 2016-25-03”). AD 2016-25-03 applied to certain Airbus Model A300 F4-600R series airplanes. The NPRM published in the Federal Register on May 25, 2018 (83 FR 24244). The NPRM was prompted by a report of two adjacent frame forks that were found cracked on the aft LDCD of two airplanes during scheduled maintenance, and the introduction of frame fork reinforcement or repair procedures that, when done, allow an extension of repetitive inspection intervals. The NPRM proposed to continue to require repetitive HFEC inspections of the aft LDCD frame forks; a one-time check of the LDCD clearances; and a one-time detailed visual inspection of hooks, eccentric bushes, and x-stops; and corrective actions if necessary. The NPRM also proposed to require revised corrective actions and compliance times. We are issuing this AD to address cracked or ruptured aft LDCD frames, which could allow loads to be transferred to the remaining structural elements. This condition could lead to the rupture of one or more vertical aft LDCD frames, which could result in reduced structural integrity of the aft LDCD.

The European Aviation Safety Agency (EASA), which is the Technical Agent for the Member States of the European Union, has issued EASA Airworthiness Directive 2015-0152R1, dated May 23, 2017 (referred to after this as the Mandatory Continuing Airworthiness Information, or “the MCAI”), to correct an unsafe condition for certain Airbus SAS Model A300 F4-600R series airplanes. The MCAI states:

During scheduled maintenance at frames (FR) 61 and FR61A on the aft lower deck cargo door (LDCD) of two A300-600F4 aeroplanes, two adjacent frame forks were found cracked. Subsequent analysis determined that, in case of cracked or ruptured aft cargo door frame(s), loads will be transferred to the remaining structural elements. However, these secondary load paths will be able to sustain the loads for a limited number of flight cycles only.

This condition, if not detected and corrected, could lead to the rupture of one or more vertical aft cargo door frame(s), resulting in reduced structural integrity of the aft cargo door.

To address this unsafe condition, Airbus issued Alert Operators Transmission (AOT) A52W011-15 to provide inspection instructions, and, consequently, EASA issued AD 2015-0152 [which corresponds to FAA AD 2016-25-03] to require repetitive inspections of the aft LDCD frame forks and, depending on findings, the accomplishment of applicable corrective action(s).

Since that [EASA] AD was issued, Airbus published Service Bulletin (SB) SB A300-52-6085 which provides frame fork reinforcement instruction and SB A300-52-6086 which provides instruction to inspect the cargo door for cracks as well as frame fork replacement instructions having the inspection interval extended from 600 flight cycles (FC) to 1,200 FC.

For the reason described above, this [EASA] AD is revised to introduce frame forks replacement or repair [or reinforcement] as an allowance to extend the inspection interval.

Required actions include repetitive HFEC inspections of the aft LDCD frame forks and repair, reinforcement, or replacement if necessary; a one-time check of the LDCD clearances and adjustment if necessary; and a one-time detailed visual inspection of hooks, eccentric bushes, and x-stops for wear, and corrective actions if necessary. Corrective actions include blend-out, adjustment, and replacement of hooks, bushes and x-stops. You may examine the MCAI in the AD docket on the internet at http://www.regulations.gov by searching for and locating Docket No. FAA-2018-0417.

Comments

We gave the public the opportunity to participate in developing this final rule. The following presents the comment received on the NPRM and the FAA's response to the comment.

Request To Incorporate Revised Service Bulletins

FedEx Express requested that we revise the proposed AD to incorporate Airbus Service Bulletin A300-52-6085, Revision 01, dated May 2, 2018; and Airbus Service Bulletin A300-52-6086, Revision 01, dated May 29, 2018. FedEx Express also requested that we update table 1 to paragraph (g) of the proposed AD with the revised compliance times specified in Airbus Service Bulletin A300-52-6086, Revision 01, dated May 29, 2018.

We partially agree with the commenter's requested changes. We agree to incorporate Airbus Service Bulletin A300-52-6085, Revision 01, dated May 2, 2018; and Airbus Service Bulletin A300-52-6086, Revision 01, dated May 29, 2018; because the changes to the procedures in those documents are not significant. The changes include updating reference documents and figures and do not result in any additional work for airplanes modified using the previous issue. Therefore, we have revised this AD to refer to Airbus Service Bulletin A300-52-6085, Revision 01, dated May 2, 2018; and Airbus Service Bulletin A300-52-6086, Revision 01, dated May 29, 2018, as the appropriate sources of service information for certain actions. We have also revised this AD to give credit for certain actions accomplished using Airbus Service Bulletin A300-52-6085, Revision 00, dated December 22, 2016; and Airbus Service Bulletin A300-52-6086, Revision 00, dated December 25, 2016.

The updated compliance times in Airbus Service Bulletin A300-52-6086, Revision 01, dated May 29, 2018, are substantively different from the compliance times specified in the proposed AD and would increase the scope of this AD without allowing for public notice and comment. Therefore, we have not changed this AD with regard to the compliance times specified in Airbus Service Bulletin A300-52-6086. However, under the provisions of paragraph (n)(1) of this AD, we will consider requests for approval of alternative compliance times if sufficient data are submitted to substantiate that the extension would provide an acceptable level of safety.

Conclusion

We reviewed the relevant data, considered the comment received, and determined that air safety and the public interest require adopting this final rule as proposed, except for minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

Airbus has issued the following service information:

• Alert Operators Transmission A52W011-15, Revision 00, including Appendices 1, 2, 3, and 4, dated July 23, 2015, which describes procedures for a check of the aft LDCD clearances “U” and “V” between the latching hooks and the eccentric bush at frame FR60 through FR64A and an adjustment of the latching hook; a detailed inspection to detect signs of wear of the hooks, eccentric bushes, and x-stops and corrective actions; and an HFEC inspection to detect cracking at all frame fork stations of the aft LDCD and a replacement of the frame fork.

• Service Bulletin A300-52-6085, Revision 01, dated May 2, 2018, which describes procedures for reinforcing frame fork fastener holes, which include related investigative and corrective actions. The related investigative actions include a rotating probe inspection for cracking of the fastener holes and a check to determine the hole diameter. Corrective actions include repair and cold working the fastener holes.

• Service Bulletin A300-52-6086, Revision 01, dated May 29, 2018, which describes procedures for a check of the aft LDCD clearances “U” and “V” between the latching hooks and the eccentric bush at FR60 through FR64A and an adjustment of the latching hook; and HFEC inspection to detect cracking at all frame fork stations of the aft LDCD and a repair of the frame fork.

This service information is reasonably available because the interested parties have access to it through their normal course of business or by the means identified in the ADDRESSES section.

Costs of Compliance

We estimate that this AD affects 58 airplanes of U.S. registry. We estimate the following costs to comply with this AD:

Estimated Costs for Required Actions
Labor cost | Parts cost | Cost per product | Cost on U.S. operators
17 work-hours × $85 per hour = $1,445 | $0 | $1,445 | $83,810

We estimate the following costs to do any necessary on-condition actions that would be required based on the results of any required actions. We have no way of determining the number of aircraft that might need these on-condition actions:

Estimated Costs of On-condition Actions
Labor cost | Parts cost | Cost per product
Up to 65 work-hours × $85 per hour = $5,525 | $10,000 | $15,525

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-25-03, Amendment 39-18729 (81 FR 93801, December 22, 2016), and adding the following new AD:

2018-20-06 Airbus SAS: Amendment 39-19440; Docket No. FAA-2018-0417; Product Identifier 2017-NM-132-AD.

(a) Effective Date

This AD is effective November 5, 2018.

(b) Affected ADs

This AD replaces AD 2016-25-03, Amendment 39-18729 (81 FR 93801, December 22, 2016) (“AD 2016-25-03”).

(c) Applicability

This AD applies to Airbus SAS Model A300 F4-605R and A300 F4-622R airplanes, certificated in any category, on which Airbus SAS modification 12046 has been embodied in production. Modification 12046 has been embodied in production on manufacturer serial numbers (MSNs) 0805 and above, except MSNs 0836, 0837, and 0838.

(d) Subject

Air Transport Association (ATA) of America Code 52, Doors.

(e) Reason

This AD was prompted by a report of two adjacent frame forks that were found cracked on the aft lower deck cargo door (LDCD) of two airplanes during scheduled maintenance, and the introduction of frame fork reinforcement or repair procedures that, when done, allow an extension of repetitive inspection intervals. We are issuing this AD to address cracked or ruptured aft LDCD frames, which could allow loads to be transferred to the remaining structural elements. This condition could lead to the rupture of one or more vertical aft LDCD frames, which could result in reduced structural integrity of the aft LDCD.

(f) Compliance

Comply with this AD within the compliance times specified, unless already done.

(g) Retained Inspection Requirements and On-Condition Actions, With Revised Compliance Times and New Service Information

This paragraph restates the requirements of paragraph (g) of AD 2016-25-03, with revised compliance times and new service information. At the applicable time specified in paragraph (h) of this AD, or before exceeding the threshold defined in table 1 to paragraph (g) of this AD, whichever occurs later: Do the actions specified in paragraphs (g)(1), (g)(2), and (g)(3) of this AD. Repeat the high frequency eddy current (HFEC) inspection specified in paragraph (g)(3) of this AD thereafter at intervals not to exceed the applicable times specified in table 1 to paragraph (g) of this AD.

(1) A one-time check of the aft LDCD clearances “U” and “V” between the latching hooks and the eccentric bush at FR60 through FR64A, in accordance with the instructions of Airbus Alert Operators Transmission A52W011-15, Revision 00, dated July 23, 2015; or the Accomplishment Instructions of Airbus Service Bulletin A300-52-6086, Revision 01, dated May 29, 2018. If any value outside tolerance is found, adjust the latching hook before further flight, in accordance with the instructions of Airbus Alert Operators Transmission A52W011-15, Revision 00, dated July 23, 2015; or the Accomplishment Instructions of Airbus Service Bulletin A300-52-6086, Revision 01, dated May 29, 2018.

(2) A one-time detailed inspection to detect signs of wear of the hooks, eccentric bushes, and x-stops, in accordance with the instructions of Airbus Alert Operators Transmission A52W011-15, Revision 00, dated July 23, 2015. If any wear is found, do all applicable corrective actions before further flight, in accordance with the instructions of Airbus Alert Operators Transmission A52W011-15, Revision 00, dated July 23, 2015.

(3) An HFEC inspection to detect cracking at all frame fork stations of the aft LDCD, in accordance with the instructions of Airbus Alert Operators Transmission A52W011-15, Revision 00, dated July 23, 2015; or the Accomplishment Instructions of Airbus Service Bulletin A300-52-6086, Revision 01, dated May 29, 2018, 2016. If any crack is found, before further flight, replace the cracked frame fork, in accordance with the instructions of Airbus Alert Operators Transmission A52W011-15, Revision 00, dated July 23, 2015; repair the cracked frame fork, in accordance with the Accomplishment Instructions of Airbus Service Bulletin A300-52-6086, Revision 01, dated May 29, 2018; or reinforce the cracked frame fork, including doing all applicable related investigative and corrective actions, in accordance with the Accomplishment Instructions of Airbus Service Bulletin A300-52-6085, Revision 01, dated May 2, 2018, except as required by paragraph (i) of this AD.

(h) Retained Compliance Times, With No Changes

At the later of the times specified in paragraphs (h)(1) and (h)(2) of this AD, do the actions required by paragraph (g) of this AD.

(1) Before the accumulation of 4,500 total flight cycles.

(2) At the applicable time specified by paragraph (h)(2)(i) or (h)(2)(ii) of this AD.

(i) For airplanes that have accumulated 8,000 or more total flight cycles as of January 26, 2017 (the effective date of AD 2016-25-03): Within 100 flight cycles after January 26, 2017.

(ii) For airplanes that have accumulated fewer than 8,000 total flight cycles as of January 26, 2017 (the effective date of AD 2016-25-03): Within 400 flight cycles after January 26, 2017.

(i) Service Information Exception

Where Airbus Service Bulletin A300-52-6085, Revision 01, dated May 2, 2018, specifies to contact Airbus for appropriate action: Before further flight, accomplish corrective actions in accordance with the procedures specified in paragraph (n)(2) of this AD.

(j) No Terminating Action

Accomplishment of corrective actions on an airplane as required by paragraph (g)(1) or (g)(2) of this AD, or repair, reinforcement, or replacement of a frame fork as required by paragraph (g)(3) of this AD, on the aft LDCD of an airplane does not constitute terminating action for the repetitive HFEC inspections required by paragraph (g)(3) of this AD for that airplane.

(k) Compliance Time Clarification

After replacement, repair, or reinforcement of any frame fork on the aft LDCD of an airplane, as specified in paragraph (g)(3) of this AD, the next HFEC inspection as required by paragraph (g)(3) of this AD can be deferred for any frame fork that is replaced, repaired, or reinforced, but must be accomplished before exceeding 6,800 flight cycles after the replacement, repair, or reinforcement of that frame fork.

(l) No Reporting

Although the Accomplishment Instructions of Airbus Alert Operators Transmission A52W011-15, Revision 00, dated July 23, 2015; and Airbus Service Bulletin A300-52-6086, Revision 01, dated May 29, 2018; specify to submit certain information to the manufacturer, this AD does not include that requirement.

(m) Credit for Previous Actions

(1) This paragraph provides credit for actions required by paragraphs (g)(1) and (g)(3) of this AD, if those actions were performed before the effective date of this AD using Airbus Service Bulletin A300-52-6086, Revision 00, dated December 25, 2016.

(2) This paragraph provides credit for actions required by paragraph (g)(3) of this AD, if those actions were performed before the effective date of this AD using Airbus Service Bulletin A300-52-6085, Revision 00, dated December 22, 2016.

(n) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (o)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): Except as required by paragraph (i) and paragraph (l) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(o) Related Information

(1) Refer to Mandatory Continuing Airworthiness Information (MCAI) EASA AD 2015-0152R1, dated May 23, 2017, for related information. This MCAI may be found in the AD docket on the iInternet at http://www.regulations.gov by searching for and locating Docket No. FAA-2018-0417.

(2) For more information about this AD, contact Dan Rodina, Aerospace Engineer, International Section, Transport Standards Branch, FAA, 2200 South 216th St., Des Moines, WA 98198; telephone and fax 206-231-3225.

(3) Service information identified in this AD that is not incorporated by reference is available at the addresses specified in paragraphs (p)(5) and (p)(6) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 5, 2018.

(i) Airbus Service Bulletin A300-52-6085, Revision 01, dated May 2, 2018.

(ii) Airbus Service Bulletin A300-52-6086, Revision 01, dated May 29, 2018.

(4) The following service information was approved for IBR on January 26, 2017 (81 FR 93801, December 22, 2016).

(i) Airbus Alert Operators Transmission A52W011-15, Revision 00, dated July 23, 2015, including the following appendices:

(A) Appendix 1—Flowchart, undated.

(B) Appendix 2—Reporting Sheet, undated. (The pages of Appendix 2 are not numbered.)

(C) Appendix 3—titled “Technical Disposition,” Ref. TD/K12/L3/02978/2015, Issue B, dated July 21, 2015. (Appendix 3 is identified with an appendix number only on page 1 of Airbus Alert Operators Transmission A52W011-15, Revision 00, dated July 23, 2015.)

(D) Appendix 4—Part number identification for frame forks and bushings, undated.

(ii) Reserved.

(5) For service information identified in this AD, contact Airbus SAS, Airworthiness Office—EAW, Rond-Point Emile Dewoitine No: 2, 31700 Blagnac Cedex, France; telephone +33 5 61 93 36 96; fax +33 5 61 93 44 51; email account.airworth-eas@airbus.com; Internet http://www.airbus.com.

(6) You may view this service information at the FAA, Transport Standards Branch, 2200 South 216th St., Des Moines, WA. For information on the availability of this material at the FAA, call 206-231-3195.

(7) You may view this service information that is incorporated by reference at the National Archives and Records Administration (NARA). For information on the availability of this material at NARA, call 202-741-6030, or go to: http://www.archives.gov/federal-register/cfr/ibr-locations.html.

Issued in Des Moines, Washington, on September 21, 2018.
John P. Piccola,
Acting Director, System Oversight Division, Aircraft Certification Service.

[FR Doc. 2018-21100 Filed 9-28-18; 8:45 am]

BILLING CODE 4910-13-P